DEPARTMENT OF DEFENSE

Department of the Army; Corps of Engineers

Coastal Engineering Research Board (CERB); Notice of Meeting

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Dates of Meeting: March 7-8, 2002.

Place: Marriott Hotel, Philadelphia Airport, Philadelphia, Pennsylvania.

Time: 8 a.m. to 5 p.m. (March 7, 2002), 8 a.m. to 12 p.m. (March 8, 2002).

FOR FURTHER INFORMATION CONTACT: Inquiries and notice of intent to attend the meeting may be addressed to Colonel John W. Morris III, Executive Secretary, Coastal Engineering Research Board, U.S. Army Engineer Research and Development Center, 3909 Halls Ferry Road, Vicksburg, Mississippi 39180-6199.

SUPPLEMENTARY INFORMATION: Proposed Agenda: The 2003 Coastal Technology Area—Research and Development (R&D) Program Review will be held March 7-8, 2002. On Tuesday, March 7, overviews of the following programs will be presented: Regional Sediment Management Program; Technologies and Operational Innovations for Urban Watershed Networks (TOWNS); Coastal Inlet Research Program (CIRP), including Dredging Management System (DMS); Field Data Collection Program (FDCP); Monitoring Completed Navigation Program (MCNP); and Section 227 Shoreline Erosion and Control Demonstration Program, including the Coastal Engineering Manual (CEM). The afternoon of March 7 and the morning of March 8 will be devoted to reviews of Work Units within the various programs, with discussions and feedback from the Field Review Group and the civilian members of the CERB.

This meeting is open to the public, but since seating capacity of the meeting room is limited, advance notice of intent to attend, although not required, is requested in order to assure adequate arrangement for those wishing to attend.

John W. Morris III,
Colonel, Corps of Engineers, Executive Secretary.

[FR Doc. 02-3828 Filed 2-14-02; 10:20 am]

BILLING CODE 3710-61-M